ELECTION ASSISTANCE COMMISSION

Sunshine Act Notice

AGENCY: United States Election Assistance Commission.

ACTION: Notice of Public Meeting for EAC Board of Advisors.

Date and Time: Tuesday, June 17, 2008, 10 a.m.-4 p.m. and Wednesday, June 18, 2008, 9 a.m.-4 p.m.

Place: Hyatt Regency Capitol Hill, 400 New Jersey Avenue, NW., Washington, DC 20001, Phone number (202) 737-1234 (Metro Stop: Union Station).

Purpose: The U.S. Election Assistance Commission (EAC) Board of Advisors, as required by the Help America Vote Act of 2002, will meet to receive updates on EAC program activities. The Board will receive presentations on the proposed next iteration of the Voluntary Voting System Guidelines (VVSG), as were submitted to EAC from the commission's Technical Guidelines Development Committee (TGDC). The Board will receive presentations on the Vote Count and Vote Recount Study and will formulate recommendations to EAC regarding research and studies. The Board will consider redrafted bylaws and other administrative matters.

This meeting will be open to the public.

Person to Contact for Information: Bryan Whitener, Telephone: (202) 566-3100.

Gracia M. Hillman,
Commissioner, U.S. Election Assistance Commission.

[FR Doc. E8-11483 Filed 5-21-08; 8:45 am]

BILLING CODE 6820-KF-M